NUCLEAR REGULATORY COMMISSION

Advisory Committee on the Medical Uses of Isotopes: Meeting Notice

AGENCY: U.S. Nuclear Regulatory Commission.

ACTION: Notice of meeting.

The U.S. Nuclear Regulatory Commission (NRC) will convene a meeting of the Advisory Committee on the Medical Uses of Isotopes (ACMUI) on April 7-8, 2025. A sample of agenda items to be discussed include: a review of recent medical events, evaluation of recent Y-90 microsphere medical events to identify potential cause of sudden increase in reported events involving unexpected GI deposition, recommendations to the NRC on knowledge topics encompassing the safety related characteristics of emerging medical technologies, recommendations regarding development of process checklists to minimize medical events, and NRC's medical radiation safety team updates including work to enhance licensing and oversight efficiency in accordance with the Advanced Act. The agenda is subject to change. The current agenda and any updates will be available on the ACMUI's Meetings and Related Documents web page at https://www.nrc.gov/reading-rm/doc-collections/acmui/meetings/index.html or by emailing Ms. A. Marra at the contact information below.

Purpose: Discuss issues related to 10 CFR part 35 Medical Use of Byproduct Material.

Date and Time for Open Sessions: April 7, 2025, from 9:00 a.m. to 4:00 p.m. and April 8, 2025, from 10:00 a.m. to 12:00 p.m. Eastern Standard Time.

Address for Public Meeting: U.S. Nuclear Regulatory Commission, One White Flint North Building (Commissioner's Hearing Room, O1-F16/O1-G16), 11555 Rockville Pike, Rockville, Maryland, 20852.

Date | Webinar information (microsoft teams)
April 7, 2025 | Link: https://teams.microsoft.com/l/meetup-join/19%3ameeting_YWM1Y2FiNWUtYWNlYS00ZWYyLWIwZmItMmQxN2FhMjI4ZTcy%40thread.v2/0?context=%7b%22Tid%22%3a%22e8d01475-c3b5-436a-a065-5def4c64f52e%22%2c%22Oid%22%3a%229bbb685c-1b6d-4b62-94b5-49950ed15dbc%22%7d
| Meeting ID: 215 307 484 116 Passcode: Df3Gn2QZ.
| Call in number (audio only): +301-576-2978, Silver Spring.
| Phone Conference ID: 312 941 521#.

Public Participation: The meeting will be held in-person and as a webinar using Microsoft Teams. Any member of the public who wishes to participate in the meeting in person, via Microsoft Teams, or via phone should contact Ms. A. Marra using the information below. Members of the public should also monitor the NRC's Public Meeting Schedule at https://www.nrc.gov/pmns/mtg for any meeting updates.

Contact Information: Ms. A. Marra, email: Alessandra.Marra@nrc.gov, telephone: 301-415-2509.

Conduct Of The Meeting:

The ACMUI Chair, Hossein Jadvar, M.D., Ph.D. will preside over the meeting. Dr. Jadvar will conduct the meeting in a manner that will facilitate the orderly conduct of business. The following procedures apply to public participation in the meeting:

1. Persons who wish to provide a written statement should submit an electronic copy to Ms. A. Marra using the contact information listed above. All submittals must be received by the close of business on April 1, 2025, and must only pertain to the topics on the agenda.

2. Questions and comments from members of the public will be permitted during the meeting, at the discretion of the ACMUI Chair.

3. The draft transcript and meeting summary will be available on ACMUI's website https://www.nrc.gov/reading-rm/doc-collections/acmui/meetings/2024.html on or about May 23, 2025.

4. Persons who require special services, such as those for the hearing impaired, should notify Ms. A. Marra of their planned participation.

This meeting will be held in accordance with the Atomic Energy Act of 1954, as amended (primarily Section 161a); the Federal Advisory Committee Act (5 U.S.C. 1001 et seq.); and the Commission's regulations in Title 10 of the Code of Federal Regulations, Part 7

Dated at Rockville, Maryland this 14th day of March, 2025.
For the U.S. Nuclear Regulatory Commission.
Russell E. Chazell,
Federal Advisory Committee Management Officer.

[FR Doc. 2025-04533 Filed 3-18-25; 8:45 am]

BILLING CODE 7590-01-P